DEPARTMENT OF TRANSPORTATION

Federal Aviation Administration

14 CFR Part 39

[Docket No. 2002-NM-224-AD]

RIN 2120-AA64

Airworthiness Directives; Airbus Model A320-211, -212, -214, -232 and -233 Series Airplanes and Model A321-211, -231 and -232 Series Airplanes

AGENCY: Federal Aviation Administration, DOT.

ACTION: Proposed rule; withdrawal.

SUMMARY: This action withdraws a notice of proposed rulemaking (NPRM) that proposed a new airworthiness directive (AD), applicable to certain Airbus Model A320-211, -212, -214, -232, and -233 series airplanes and Model A321-211, -231, and -232 series airplanes. That action would have required a one-time ultrasonic inspection of certain floor crossbeams to determine if they are of nominal thickness; and a structural modification to reinforce any crossbeam that is not of nominal thickness. Since the issuance of the NPRM, the Federal Aviation Administration (FAA) has received new data showing that all airplanes subject to the NPRM have already been inspected and all incorrect crossbeams modified as required, which makes the NPRM unnecessary. Accordingly, the proposed rule is withdrawn.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to add a new airworthiness directive (AD), applicable to certain Airbus Model A320-211, -212, -214, -232, and -233 series airplanes and Model A321-211, -231, and -232 series airplanes, was published in the Federal Register as a Notice of Proposed Rulemaking (NPRM) on March 17, 2004 (69 FR 12596). The proposed rule would have required a one-time ultrasonic inspection of certain floor crossbeams to determine if they were of nominal thickness; and a structural modification to reinforce any crossbeam that was not of nominal thickness. That action was prompted by reports that an Airbus quality check revealed that, due to a process discrepancy during production, certain floor structural crossbeams were manufactured that were not of nominal thickness and were installed in certain airplanes before the discrepancy was discovered. The proposed actions were intended to prevent reduced structural integrity of the floor in the event of rapid depressurization or rapid vertical acceleration.

Actions That Occurred Since the NPRM Was Issued

Since the issuance of the NPRM, the FAA has received reports from Airbus indicating that all airplanes listed in the applicability section of the NPRM (corresponding to paragraph 1.A., “Effectivity,” of Airbus Service Bulletin A320-53A1162, including Appendix 01 and Appendix 02, dated June 25, 2002) have been inspected and all incorrect crossbeam fittings have been found and modified in accordance with Airbus Service Bulletin A320-53A1163, dated June 25, 2002.

FAA's Conclusions

Upon further consideration, the FAA has determined that all airplanes subject to the proposed rule have already been inspected and repaired as needed and the proposed rule has become unnecessary. Accordingly, the proposed rule is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2002-NM-224-AD, published in the Federal Register on March 17, 2004 (69 FR 12596), is withdrawn.

Issued in Renton, Washington, on July 13, 2004.
Kalene C. Yanamura,
Acting Manager, Transport Airplane Directorate, Aircraft Certification Service.

[FR Doc. 04-16683 Filed 7-21-04; 8:45 am]

BILLING CODE 4910-13-P